DEPARTMENT OF COMMERCE

National Institute of Standards and Technology

Notice of Government Owned Invention Available for Nonexclusive Licensing

AGENCY: National Institute of Standards and Technology, Commerce.

ACTION: Notice of Government owned invention available for nonexclusive licensing.

SUMMARY: The invention listed below is owned in whole by the U.S. Government, as represented by the Department of Commerce. The invention is available for nonexclusive licensing in accordance with 35 U.S.C. 207 and 37 CFR part 404 to achieve expeditious commercialization of results of federally funded research and development.

FOR FURTHER INFORMATION CONTACT: Technical and licensing information on this invention may be obtained by writing to: National Institute of Standards and Technology, Office of Technology Partnerships, Attn: Mary Clague, Building 820, Room 213, Gaithersburg, MD 20899. Information is also available via telephone: 301-975-4188 , fax 301-869-2751, or e-mail: mary.clague@nist.gov. Any request for information should include the NIST Docket number and title for the invention as indicated below.

SUPPLEMENTARY INFORMATION: NIST may enter into a Cooperative Research and Development Agreement (“CRADA”) with the licensee to perform further research on the invention for purposes of commercialization. The invention available for nonexclusive licensing is:

NIST Docket Number: 00-028US

Title: Suspended Dry-Dock Platform.

Abstract: A cable-supported platform that can precisely manipulate workers, tools/equipment and loads using position, velocity and force control modes. The platform uses six cables that attach to four support points on towers, walls or other structural supports so as to provide constraint and control of the suspended platform. The cable lengths can be independently controlled by hoist drive-mechanisms and coordinated to achieve intuitive platform movement in all six degrees-of-freedom (side-to-side, forward-and-back, up-and-down, and all three rotations about these motions: roll, pitch and yaw). The platform, consisting of servo components (i.e., hoist, amplifier, servo interface, sensory feedback), can be rapidly reconfigured to adjust to new applications. Initial applications address worker/equipment access challenges in dry dock ship and submarine repair and conversion. It can also be used for construction, high bays, and dam repair and maintenance. Various combinations of manual and automatic control can also be implemented. The hoists can be controlled manually by a multi-axis joystick, or can be automatically controlled by a computer.

Dated: March 5, 2004.
Hratch G. Semerjian,
Acting Director.

[FR Doc. 04-5665 Filed 3-11-04; 8:45 am]

BILLING CODE 3510-13-P